COMMISSION ON CIVIL RIGHTS

Sunshine Act Notice

AGENCY: United States Commission on Civil Rights.

ACTION: Notice of business meeting.

DATE AND TIME: Friday, October 12, 2012; 9:30 a.m. EDT.

PLACE: 1331 Pennsylvania Ave NW., Suite 1150, Washington, DC 20425.

Meeting Agenda

This meeting is open to the public.

I. Approval of Agenda

II. Program Planning Update and Discussion of Projects

• Update on The Civil Rights Implications of Eminent Domain Abuse briefing

• Update on the Sex Trafficking: A Gender-Based Violation of Civil Rights briefing

• Update on Federal Civil Rights Engagement w/Arab & Muslim Communities Post 9/11 briefing

III. Management and Operations

• Chief of Regional Programs' report

• OGC Training: Ethics Rules Relating to Teaching, Speaking, and Writing

IV. Approval of State Advisory Committee Slates

• Colorado

• Florida

• Massachusetts

• New Jersey

• South Carolina

• West Virginia

V. Adjourn Meeting

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: October 1, 2012.
Kimberly Tolhurst,
Senior Attorney-Advisor.

[FR Doc. 2012-24513 Filed 10-1-12; 4:15 pm]

BILLING CODE 6335-01-P